COMMITTEE FOR PURCHASE FROM PEOPLE WHO ARE BLIND OR SEVERELY DISABLED

Agency Information Collection Activities; Proposals, Submissions, and Approvals

AGENCY: Committee for Purchase From People Who Are Blind or Severely Disabled.

ACTION: Notice of information collection; request for comment.

SUMMARY: The Committee for Purchase From People Who Are Blind or Severely Disabled operates as the U.S. AbilityOne Commission (Commission). This notice announces the Commission's intent to submit the Information Collection Request (“ICR”) described below to the Office of Management and Budget (OMB) for approval under applicable provisions of the Paperwork Reduction Act. This notice provides an opportunity to interested members of the public and affected agencies to comment on a proposed updated Nonprofit Agency (NPA) Annual Representations and Certifications form.

DATES: Submit comments on or before December 14, 2024.

ADDRESSES: Submit comments to www.regulations.gov.

FOR FURTHER INFORMATION CONTACT: Christopher Stewart, Compliance and Enforcement Attorney, Office of General Counsel, U.S. AbilityOne Commission, 355 E Street SW, Suite 325, Washington, DC 20024; telephone: (703) 254-6172; email: cstewart@abilityone.gov. If you are deaf, hard of hearing, or have a speech disability and wish to access telecommunications relay services, please dial 7-1-1.

SUPPLEMENTARY INFORMATION:

Overview of ICR: This notice pertains to an ICR the Commission intends to submit to OMB for approval of an updated form that each AbilityOne NPA will submit annually regarding its AbilityOne Program performance. This is a revision of an existing form that is submitted on an annual reporting cycle. This ICR is consistent with OMB regulations at 5 CFR part 1320, which implement provisions of the Paperwork Reduction Act of 1995 (44 U.S.C. 3501 et seq.) These regulations require the Commission to provide an opportunity to interested members of the public and affected agencies to comment on information collection and recordkeeping activities (see 5 CFR 1320.8(d)) such as those proposed to be implemented through this updated form.

The Commission is responsible for implementing the Javits-Wagner-O'Day (JWOD) Act, 41 U.S.C. 8501-8506. In doing so, the Commission oversees the AbilityOne Program (Program), a program in which individuals who are blind or have significant disabilities provide products and services to Federal agencies, thereby creating employment opportunities for such individuals. The Commission maintains a Procurement List of mandatory source products and services provided by approximately 400 qualified nonprofit agencies (NPAs). The individuals who are blind or have significant disabilities performing direct labor tasks for NPA-employers are called “qualifying direct labor employees.” The Commission also established the term “participating employees” to mean the subset of such qualifying direct labor employees who work on AbilityOne contracts.

The implementing regulations for the JWOD Act, which are located at 41 CFR chapter 51, provide the requirements, procedures, and standards for the Program. Section 51-4.3 of the regulations sets forth the requirements that an NPA must meet to maintain qualification for participation in the Program. Under this section of the regulations, an NPA must submit a completed copy of the appropriate Annual Certification form. This documentation helps the Commission determine whether the NPA is meeting the qualification requirements of the Program. The Commission has also published policies regarding compliance requirements for qualified NPAs.

This information collection request seeks approval for the Commission to update its collection of information necessary to annually verify an NPA's compliance with Program requirements, as required by statute, regulations, and policies, as well to update its collection of the NPA's performance data to assess the total effect and effectiveness of the AbilityOne Program. The proposed form is called the Annual Representations and Certifications (ARC) for AbilityOne Qualified Nonprofit Agencies.

As part of the Commission's modernization of the Program, the updated ARC form will collect limited aggregate information: (1) NPA Program-related revenue and Program-related subcontracting; (2) a headcount of qualifying direct labor employees and other NPA employees who perform direct labor; (2) the direct labor hours performed by qualifying direct labor employees and others; (3) a headcount of veterans employed by the NPA; (4) the wages paid to participating employees and other NPA employees who perform direct labor; (5) employment benefits offered to participating employees; (6) employment mobility outcomes (e.g., internal promotion, employment with a new employer, etc.) achieved by participating employees; (7) the source of disability eligibility determination documentation for participating employees; and (8) eleven (11) questions about general NPA function, governance, and support(s) received from its designated Central Nonprofit Agency (CNA).

To streamline the ARC as compared to its predecessor form, the Commission removed the following: (1) questions about NPA governance, NPA-Program requirements, and Program integrity questions requiring yes/no responses, as those matters will be separately monitored by the designated CNA's compliance program; (2) the NPA's revenue, wages paid to direct labor employees, and subcontracting expenditures for work performed by the NPA that is not subject to the Program; and (3) career mobility outcomes generated from an NPA's vocational rehabilitation activities (previously called direct placement). In this ARC modification, the Commission requires a limited expansion in reporting: (1) the headcount and cumulative employment of qualifying direct labor employees and other NPA employees who perform direct labor; (2) wages (total wages and other benefits paid) to participating employees and other NPA employees who perform direct labor; (3) the source(s) of disability determination documentation; (4) employment benefits offered to participating employees (select all that apply); and (5) general information about the number of board members that self-identify as having a disability, whether the Program contract worksites are represented by union(s), and what types of supports the NPA received from its designated CNA.

The proposed updated ARC is available at www.abilityone.gov.

The ARC will be required annually after the close of the Federal fiscal year. In accordance with 41 CFR 51-4.3(a), each NPA must submit the ARC to its responsible CNA by November 1. The form will be completed and submitted electronically.

The Commission published a sixty-day notice for this ICR on May 3, 2024. The Commission received twenty-six (26) comments from various stakeholders in response to the notice. Comments were received from NPAs, CNAs, and other stakeholders. In addition to general comments, the comments can be grouped into those that questioned the Commission's need to collect certain data, comments that sought clarification of definitions or specific data elements, comments about career mobility data, comments about benefits-related data, comments about subcontracting data, and comments that questioned the Commission's estimated time burden for completing the form.

Among the general comments, some included requests for instructions for the form, or for the definitions of various terms used in the form to be made clearer. A few commenters supported the Commission's stated purposes of helping ensure the integrity of and furthering the mission of the AbilityOne Program. One stated that the forms present a good opportunity to increase transparency and ensure program accountability. Several commenters noted that the proposed form collected many of the same data elements collected by the CNAs and wanted to ensure there would not be duplication of data collection.

Among the comments questioning the Commission's need to collect certain data, some commenters asserted that the proposed data collection exceeded the Commission's statutory authority or went beyond collecting data pertaining to NPA qualification requirements. Some commenters stated that the rationale for collecting the information published in the 60-day notice was too general to substantiate the collection. Others requested information about the Commission's planned use for the information.

Among the comments about specific data elements to be collected, some questioned the need to collect data regarding the source of participating employees' disability eligibility determination. Some commenters questioned the purpose of collecting the number of employees on October 1, September 30, and a cumulative value, and requested clarification of the term “cumulative.” Some questioned the purpose and benefit of collecting the number of employees with disabilities performing indirect labor, particularly if that data element is optional, as the form makes clear. Many commenters were critical of the data request for mean (average) and median hourly wages paid, citing the burden in providing such data and questioning the utility of such data. Some of those commenters requested a definition and/or clarification of the terms “mean” and “median.” Many commenters noted their concerns with collecting data regarding the employment of spouses and dependents of veterans, requested the definition of a “dependent,” and noted that such data was not currently collected by the NPAs.

Many commenters questioned the need for data regarding career mobility of participating employees. Some asked for clarification of the three types of career mobility referenced in the form (lateral, upward and outward). Others sought clarification of an “NPA system for career mobility” and suggested simply using the term “NPA” instead. One commenter suggested that “demotion” be included as a category. Some commenters stated that NPAs often do not know where an employee has gone, including what new jobs they may have attained, when an employee has chosen to leave. One commenter stated that NPAs contacting departing or former employees for feedback on employment mobility outcomes would be burdensome. Finally, some commenters requested the ability to note on the form that the employee has not desired any new career opportunities.

Among the comments regarding the benefits-related data requested, some questioned the relevance of collecting this data. Some commenters noted that employees may choose to opt out of receiving certain benefits. Some commenters were supportive of collecting employment benefits data but suggested that it would be useful to provide a free text option for the NPA to explain its benefits system.

Several comments related to the scope of the data requested about subcontracts. Some commenters requested a definition of “subcontract” and “subcontractor.” Some sought clarification of the timeframe for reporting subcontracts, while others sought clarification on how to accurately report whether the subcontractor's employees and NPA employees were occupying the same labor positions and whether the subcontractor had offered jobs to NPA employees. One commenter recommended that the Commission add Service-Disabled Veteran-Owned Small Businesses as a category for small business subcontract reporting.

Among the comments that questioned the Commission's estimated time burden, several commenters suggested that the Commission's estimated time burden was inadequate or understated. Two offered a time burden amount for the previous form, but neither commented whether the time burden for the proposed form would be higher, lower, or approximately the same as the previous form. Only one commenter offered an estimate that the proposed form would require 20 hours to collect and report the required data.

Some commenters stated that it may be costly and onerous to report the number of participating employees by the medical documentation source. Another commenter stated it may be burdensome to calculate and report employees with disabilities employed in indirect labor functions, but did not offer any details as to why that would be difficult and did not offer an estimate of the additional time it would take to make that calculation. One commenter said that it may be burdensome to report low, high, and average hourly wages paid to participating employees.

Other commenters stated it would be burdensome to report the percentage of employees that elect to receive the NPA-provided health insurance or the cash payment instead, but did not offer details as to why that would be difficult and did not offer an estimate of the additional time it would take to determine that number.

The two CNAs, as commenters, stated that the burden to modify their data collection system was not considered in the burden estimate.

The Commission appreciates the comments it received and has made a number of modifications in the revised form available with this notice.

As a general matter, the Commission modified and reduced the data collection in the proposed form. To address the apparent confusion regarding whether the proposed form will duplicate existing data collections, the Commission has made clear that the proposed form replaces and supersedes the previous, similarly named annual certification required from NPAs. In addition, the Commission has made clear that it expects the CNAs to collect the data from this form in a manner that does not duplicate the manner in which the CNAs currently collect much of the same data. These points have been discussed in a variety of public meetings and forums and will continue to be articulated by the Commission.

With respect to the Commission's authority and need to collect the data, some of the information being collected is required by law, regulation, or policy, while other information is needed to ensure that the Program operates efficiently, successfully, and in accord with the mission of the Program. In order to strengthen and grow the employment opportunities offered through the AbilityOne Program, the Commission needs quantitative data to demonstrate the Program's integrity, to reflect the number and nature of good jobs offered in the Federal contracts obtained through the sole-source procurement process of the Program, and to determine the positive employment outcomes, including opportunities for career mobility, that currently exist in the Program.

The Commission's collection of data about the sources of employees' disability qualification documentation will be used to help ensure and demonstrate that individuals working on AbilityOne projects have qualifying disabilities and are eligible for the hiring opportunities available through the sole-source procurement program. Another proposed data collection form, the “Participating Employee Information” form, will collect in an electronic system the source of disability documentation at the time of hire for new employees, as well as for individuals currently employed on the AbilityOne contracts. The Commission expects this electronic collection will enable an NPA to auto-calculate the aggregate number of employees by medical documentation source. Indeed, the Commission has conveyed to each CNAs that it expects the CNA's electronic data system to enable such auto-population.

In response to requests for clarification of various terminology used in the form, the Commission has changed the term “cumulative” to the term “total employed during the year” to clarify the value required in the participating employee count table. The Commission has also modified the question regarding “number of employees who are blind or have a significant disability performing indirect labor” to “number of employees who self-identify as a person with a disability performing indirect labor” to clarify that is a count of indirect labor employees that self-identify as having a disability.

The Commission has removed the question regarding the median hourly wages paid to participating employees so as to reduce the burden on NPAs in calculating the median hourly wage. The data request for the mean hourly wages paid has been changed so that a field will be automatically calculated once the NPA has entered the count of participating employees during the fiscal year and the wages paid to participating employees.

The Commission has removed the request for data regarding the number of military spouses or dependents hired by the NPA on Federal contracts obtained through the AbilityOne Program, thus eliminating the need to further define those terms. That data is often of interest to Federal agencies, particularly the Department of Defense, as the agency considers whether to ask or agree that a contract be placed on the AbilityOne sole-source procurement list. The NPAs that collect such data often include that information when they bid for contracts. However, data requests regarding employment of veteran spouses or dependents will not be included on this form.

The Commission revised the question seeking the percentage of participating employees that utilize NPA-provided health insurance (or cash in lieu of the benefit). The form now simply provides check boxes for the NPA to indicate which benefits are offered. Based on comments received, “tuition assistance or other education support” is now included in the list of benefits offered. In addition, an “other” category has been added, along with an option to enter free text describing an employment benefit that is not listed on the form. Finally, an additional free text box has been added so an NPA can provide additional information on its benefits structure, if it wishes to do so.

The measurement of participating employee career mobility is particularly important to the Commission's demonstration that the AbilityOne Program offers a wide range of good jobs. The Commission added parenthetical explanations for the employment mobility outcome terms—lateral movement, upward movement, and outward movement—and has added “demotion” as a potential outcome.

The Commission also added an option to allow the NPA to note that the employee has a “stated desire to remain in present position.” As a subset of that answer, the form has an option for the NPA to note that the employee has “expressed concern regarding potential government benefit disqualification as a result of increased wages.”

The Commission has included an option of “unknown” regarding an employee's desire to remain in a current labor position. However, once NPAs are required to engage in annual career planning with their employees, the NPA will be expected to know the answer to whether a participating employee wishes to remain in their current labor position.

The Commission has significantly modified the requested information regarding subcontracting of work on the Procurement List. It has removed entirely the section seeking data on whether participating employees are performing the same or similar jobs as employees of the subcontractor. This data will be relevant when an NPA is a prime contractor and subcontracts with an entity in which the employees of the subcontractor and the NPAs participating employees perform the same or similar jobs. This is an approach the Commission is exploring as a means of increasing integration in the workplace, but it is not yet a common practice in the Program.

The Commission has also removed the question regarding whether a subcontractor has employed participating employees. While this data is relevant regardless of whether participating employees are doing the same or similar job as subcontractor employees, it is not yet the norm for NPAs to require that their subcontractors have a mechanism by which the subcontractor will view participating employees as a talent pool to draw upon for employment.

Finally, the Commission has removed all collection of information about an NPA's subcontracts on contracts obtained independently of the AbilityOne Program.

The Commission has added Service-Disabled Veteran-Owned Small Business as a choice of a subcontractor business entity type. The Commission will also define the terms “subcontract” and “subcontracting” in the instructions for the proposed form.

With regard to the time burden estimate, the Commission has revised its estimate for an NPA to complete the proposed form from eight (8) hours to twenty (20) hours.

One commenter suggested that ten (10) hours was more realistic for completing the form, while a second commenter suggested that twenty (20) hours was the appropriate estimate. No other commenters suggested alternative time estimates.

In order to be conservative, the Commission now estimates that an NPA will need twenty (20) hours to complete the proposed form. The Commission estimates that it will take a human resources staff person (or an equivalent staff person) nine (9) hours to complete some sections of the form; a financial specialist nine (9) hours to complete other sections of the form, and two (2) hours by the Principal Officer to review and certify the form.

To calculate the cost burden for this average annual burden, the Commission used national average pay data from the U.S. Bureau of Labor Statistics, using the May 2023 National Occupational Employment and Wage Estimate of $36.57 as the mean hourly wage for a Human Resources Specialist (OC 13-1070), $46.37 as the mean hourly wage for a Financial Specialist (OC 13-2000), and $124.47 as the mean hourly wage for a Chief Executive Officer (OC 11-1011). See https://www.bls.gov/news.release/ocwage.t01.htm.

The table below represents the time and cost burden the Commission estimates this form will necessitate.

NPA positions | Annual form burden (hours) | Total time burden for all employees | Annual form cost burden (dollars)
HR Specialist | 9 |  | $329.13
Financial Specialist | 9 |  | 417.33
Principal Officer | 2 |  | 248.94
Total | 20 |  | 995.40

With respect to this collection of information via the proposed form, the Commission welcomes comments on the following:

1. The necessity to collect this information to support the Commission's mission and oversight responsibilities;

2. Methodology to improve the accuracy of the estimated time burden;

3. Suggestions or methods to minimize the burdens associated with collecting the information described in this ICR.

Michael R. Jurkowski,
Director, Business Operations.

[FR Doc. 2024-26659 Filed 11-14-24; 8:45 am]

BILLING CODE 6353-01-P